DEPARTMENT OF COMMERCE

International Trade Administration

[A-570-186]

Overhead Door Counterbalance Torsion Springs From the People's Republic of China: Final Affirmative Determination Sales at Less Than Fair Value and Final Affirmative Critical Circumstances Determination, in Part

AGENCY: Enforcement and Compliance, International Trade Administration, Department of Commerce.

SUMMARY: The U.S. Department of Commerce (Commerce) determines that overhead door counterbalance torsion springs (overhead door springs) from the People's Republic of China (China) are being, or likely to be, sold in the United States at less than fair value (LTFV). The period of investigation (POI) is April 1, 2024, through September 30, 2024.

DATES: Applicable August 15, 2025.

FOR FURTHER INFORMATION CONTACT: Jacob Keller or Blair Hood, AD/CVD Operations, Office I, U.S. Department of Commerce, 1401 Constitution Avenue NW, Washington, DC 20230; telephone: (202) 482-4849 and (202) 482-8329, respectively.

SUPPLEMENTARY INFORMATION:

Background

On June 2, 2025, Commerce published the Preliminary Determination in the Federal Register.¹ On July 29, 2025, Commerce published the Preliminary Critical Circumstances Determination in the Federal Register.² For a complete description of the events that followed the Preliminary Determination and Preliminary Critical Circumstances Determination, see Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Overhead Door Counterbalance Torsion Springs from the People's Republic of China: Preliminary Affirmative Determination of Sales at Less Than Fair Value, 90 FR 23311 (June 2, 2025) (Preliminary Determination), and accompanying Preliminary Decision Memorandum (PDM).

² See Overhead Door Counterbalance Torsion Springs from India and the People's Republic of China: Preliminary Affirmative Determinations of Critical Circumstances, in Part, in the Less-Than-Fair Value Investigations, 90 FR 25662 (July 29, 2025) (Preliminary Critical Circumstances Determination).

³ See Memorandum, “Issues and Decision Memorandum for the Final Affirmative Determination in the Less-Than-Fair-Value Investigation of Overhead Door Counterbalance Torsion Springs from the People's Republic of China,” dated concurrently with, and hereby adopted by, this notice (Issues and Decision Memorandum).

Scope of the Investigation

The product covered by this investigation is overhead door springs from China. For a complete description of the scope of this investigation, see Appendix I.

Scope Comments

In the Preliminary Scope Memorandum, we set aside a period of time for parties to raise issues regarding product coverage (i.e., scope) in scope-specific case briefs or other written comments on scope issues.⁴ No interested parties commented. Therefore, we made no changes to the scope of the investigation. See Appendix I.

⁴ See Memorandum, “Preliminary Scope Decision Memorandum,” dated March 28, 2025 (Preliminary Scope Memorandum).

Verification

Commerce did not conduct verification of the mandatory respondents under examination in this investigation, because the respondents did not provide information requested by Commerce.

Analysis of Comments Received

The issue raised in the case brief by an interested party in this investigation is discussed in the Issues and Decision Memorandum. For a list of topics discussed, and the issue raised to which we responded in the Issues and Decision Memorandum, see Appendix II.

China-Wide Entity and Use of Adverse Facts Available (AFA)

For the purposes of this final determination, consistent with the Preliminary Determination,⁵ we relied solely on the application of AFA for the China-wide entity, pursuant to sections 776(a) and (b) of the Tariff Act of 1930, as amended (the Act). No interested party submitted comments on the Preliminary Determination. Thus, we made no changes to our analysis or to the China-wide entity's dumping margin for the final determination. A detailed discussion of our application of AFA is provided in the Preliminary Determination.⁶

⁵ See Preliminary Determination PDM at 10-13.

⁶ Id.

Final Affirmative Determination of Critical Circumstances, in Part

Commerce preliminarily determined, in accordance with section 733(e)(1) of the Act and 19 CFR 351.206(c)(1), that critical circumstances existed with respect to imports of overhead door springs produced and/or exported by the China-wide entity, but that critical circumstances did not exist with respect all other producers and/or exporters granted a separate rate not individually examined.⁷

⁷ See Preliminary Critical Circumstances Determination.

For the final determination, pursuant to section 735(a)(3)(B) of the Act and 19 CFR 351.206, we are continuing to find that critical circumstances exist for the China-wide entity, and do not exist for all other producers and/or exporters granted a separate rate. With respect to finding that critical circumstances exist for the China-wide entity, we relied on facts otherwise available, including with an adverse inference, pursuant to sections 776(a) and (b) of the Act. For a full description of the methodology and results of Commerce's critical circumstances analysis, see the Issues and Decision Memorandum.

Separate Rate Eligibility

In the Preliminary Determination, we found that seven companies ⁸ demonstrated their eligibility for a separate rate.⁹ As we received no information or interested party arguments to the contrary since the issuance of the Preliminary Determination, we continue to find that these companies are each eligible for a separate rate.

⁸ These companies are: (1) Chi Hardware Corporation Limited (Chi Hardware), (2) Hangzhou Fuxing Spring Co., Ltd. (Fuxing), (3) Hebei Meirui Metals and Minerals Co.. Ltd. (Hebei Meirui), (4) MFG Direct (Ningbo) Limited (Ningbo Direct), (5) Ningbo Well Lift Door Co., Ltd. (Ningbo Well), (6)Wuxi JiuPie Information Technology Co., Ltd. (Wuxi JiuPie), and (7) Wuxi KOP Door Technology Co., Ltd (Wuxi KOP).

⁹ See Preliminary Determination.

Final Determination

Commerce determines that the following estimated weighted-average dumping margins exist:

Producer | Exporter | Weighted-average dumping margin (percent) | Cash deposit rate (adjusted for subsidy offsets) (percent)
Suzhou Shunchi Hardware Co., Ltd | Chi Hardware Corporation Limited | 734.33 | 723.79
Wuxi Xinhui Spring Factory | Chi Hardware Corporation Limited | 734.33 | 723.79
Hangzhou Fuxing Spring Co., Ltd | Chi Hardware Corporation Limited | 734.33 | 723.79
Hangzhou Fuxing Spring Co., Ltd | Hangzhou Fuxing Spring Co., Ltd | 734.33 | 723.79
Tianjin Gangzhen Auto Parts Co., Ltd | Hebei Meirui Metals & Minerals Co., Ltd | 734.33 | 723.79
MFG Direct (Ningbo) Limited | MFG Direct (Ningbo) Limited | 734.33 | 723.79
Tianjin Wangxia Spring Co., Ltd | Ningbo Well Lift Door Co., Ltd | 734.33 | 723.79
Hangzhou Fuxing Spring Co., Ltd | Ningbo Well Lift Door Co., Ltd | 734.33 | 723.79
Hefei Wangqin Spring Co., Ltd | Ningbo Well Lift Door Co., Ltd | 734.33 | 723.79
Tianjin Wangxia Spring Co., Ltd | Wuxi Jiupie Information Technology Co., Ltd | 734.33 | 723.79
Wuxi New Fire Technology Co., Ltd | Wuxi Jiupie Information Technology Co., Ltd | 734.33 | 723.79
Hangzhou Fuxing Spring Co., Ltd | Wuxi Jiupie Information Technology Co., Ltd | 734.33 | 723.79
Hangzhou Fuxing Spring Co., Ltd | Wuxi Kop Door Technology Co., Ltd | 734.33 | 723.79
China-wide Entity |  | * 778.31 | 767.77
* Rate based on facts available with adverse inferences.

Disclosure

Because we have not modified our analysis to the Preliminary Determination, we are adopting the Preliminary Determination as the final determination. Consequently, there are no new calculations to disclose in accordance with 19 CFR 351.224(b) for the final determination of this investigation.

Continuation of Suspension of Liquidation

As a result of our Preliminary Determination and Preliminary Critical Circumstances Determination, and pursuant to sections 733(e)(2)(A) of the Act, for the China-wide entity, Commerce will instruct U.S. Customs and Border Protection (CBP) to continue to suspend liquidation of subject merchandise, as described in Appendix I, entered, or withdrawn from warehouse, for consumption on or after March 4, 2025, which is 90 days prior to the date of the publication of the affirmative Preliminary Determination in the Federal Register, at the cash deposit rate indicated above.

For the separate rate companies, we will instruct CBP to continue to suspend liquidation of subject merchandise, entered, or withdrawn from warehouse, for consumption, on or after June 2, 2025, which is the date of publication of the affirmative Preliminary Determination in the Federal Register, at the cash deposit rate indicated in the above table.

Pursuant to section 735(c)(1)(B)(ii) of the Act and 19 CFR 351.210(d), we will instruct CBP to require a cash deposit for such entries of merchandise equal to the amount by which normal value exceeds the U.S. price as follows: (1) the cash deposit rate for the exporter/producer combination listed in the table above will be the rate identified in the table, adjusted for subsidy offsets, if appropriate; (2) for all combinations of Chinese producers/exporters of subject merchandise that have not established eligibility for their own separate rates, the cash deposit rate will be the rate established for the China-wide entity, adjusted for subsidy offsets if appropriate; and (3) for all third country exporters of subject merchandise, the cash deposit rate will be the cash deposit rate applicable to the Chinese producer/exporter that supplied that third country exporter.

To determine the cash deposit rate, Commerce normally adjusts the estimated weighted-average dumping margin by the amount of domestic pass-through and export subsidies countervailed in a companion countervailing duty (CVD) proceeding, when CVD provisional measures are in effect. Accordingly, where Commerce has made a final affirmative determination for domestic pass-through or export subsides, Commerce offsets the estimated weighted-average dumping margin by the appropriate CVD rate. Commerce has continued to adjust the cash deposit rate for export subsidies found in the companion CVD investigation by the appropriate export subsidy rate, however, the suspension of liquidation of provisional measures in the companion CVD case has been discontinued.¹⁰ Therefore, we are not instructing CBP to collect cash deposits based on the adjusted estimated weighted-average dumping margin for export subsidies at this time.¹¹ If the U.S. International Trade Commission (ITC) makes a final affirmative determination of injury due to both dumping and subsidies, then the cash deposit rate will be revised effective on the date of publication of the ITC's final affirmative determination in the Federal Register to be the company-specific estimated weighted-average dumping margin adjusted for export subsidies.

¹⁰ See section 703(d) of the Act, which states that the provisional measures may not be in effect for more than four months, which in the companion CVD case is 120 days after the publication of the preliminary determination, or July 31, 2025 (i.e., the last day provisional measures are in effect).

¹¹ Overhead Door Counterbalance Torsion Springs from the People's Republic of China: Preliminary Affirmative Countervailing Duty Determination and Alignment of Final Determination with Final Antidumping Duty Determination, 90 FR 1630 (April 3, 2025); see also 703(d) of the Act, which states that the provisional measures may not be in effect for more than four months, which in the companion CVD case is 120 days after the publication of the preliminary determination, or August 1, 2025.

ITC Notification

In accordance with section 735(d) of the Act, Commerce will notify the ITC of its final affirmative determination of sales at LTFV of overhead door springs from China. Because the final determination is affirmative, in accordance with section 735(b)(2) of the Act, the ITC will determine, within 45 days, whether the domestic industry in the United States is materially injured, or threatened with material injury, by reason of imports of overhead door springs from China.

In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

If the ITC determines that material injury or threat of material injury does not exist, this proceeding will be terminated and all cash deposits will be refunded. If the ITC determines that such injury does exist, Commerce will issue an AD order, in accordance with section 736(a) of the Act, directing CBP to assess, upon further instruction by Commerce, antidumping duties on all imports of the subject merchandise that are entered, or withdrawn from warehouse, for consumption on or after the effective date of the suspension of liquidation, as discussed in the “Continuation of Suspension of Liquidation” section.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published in accordance with sections 735(d) and 777(i) of the Act, and 19 CFR 351.210(c).

Dated: August 11, 2025.
Christopher Abbott,
Deputy Assistant Secretary for Policy and Negotiations, performing the non-exclusive functions and duties of the Assistant Secretary for Enforcement and Compliance.

Appendix I

Scope of the Investigation

The merchandise covered by this investigation is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by this investigation covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of this investigation are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope.

Subject merchandise also includes overhead door counterbalance torsion springs that have been further processed in a third country, including but not limited to cutting to length, attachment of hardware, cones or end-fittings, inclusion in garage door kits or garage door mounting or assembly kits, or any other processing that would not remove the merchandise from the scope of this investigation if performed in the country of manufacture of the in-scope overhead door counterbalance torsion springs.

All products that meet the written physical description are within the scope of this investigation unless specifically excluded. The following products are specifically excluded from the scope of this investigation:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to this investigation are currently classified under Harmonized Tariff Schedule of the United States (HTSUS) subheadings 7320.20.5020, 7320.20.5045, and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies.

Although the HTSUS subheadings are provided for convenience and customs purposes, the written description of the scope of this investigation is dispositive.

Appendix II

List of Topics Discussed in the Issues and Decision Memorandum

I. Summary

II. Background

III. Final Affirmative Determination of Critical Circumstances in Part

IV. Discussion of the Issue

Comment: Whether Commerce Should Rely on Ship Manifest Panjiva Data Rather Than Trade Data Monitor Import Statistics for the Final Critical Circumstances Determination

V. Recommendation

[FR Doc. 2025-15522 Filed 8-14-25; 8:45 am]

BILLING CODE 3510-DS-P